COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products to be furnished by nonprofit agencies employing persons who are blind or have other sever disabilities, and to delete products and services previously furnished by such agencies.

Comments Must Be Received on or Before: October 24, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities.

2. If approved, the action will result in authorizing small entities to furnish the products to the Government.

3. There are no known regulatory alternatives which would accomplish the objectives of the Javits-Wagner-O'Day Act (41 U.S.C. 46-48c) in connection with the products proposed for addition to the Procurement List.

End of Certification

The following products are proposed for addition to Procurement List for production by the nonprofit agencies listed:

Products

Product/NSN: Tea Light Candles, Strawberry/M.R. 488, Unscented/M.R. 487, Vanilla/M.R. 486.

NPA: South Texas Lighthouse for the Blind, Corpus Christi, Texas.

Contract Activity: Defense Commissary Agency (DeCA), Ft. Lee, VA, Fort Lee, Virginia.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Product/NSN: Enamel, Lacquer,

8010-00-935-7085.

NPA: None currently authorized.

Contract Activity: GSA, Hardware & Appliances Center, Kansas City, Missouri.

Product/NSN: Germicidal Cleaner/Degreaser,

7930-01-393-6756.

NPA: Lighthouse for the Blind, St. Louis, Missouri.

Contract Activity: None currently authorized.

Product/NSN: Portfolio, Plastic Envelope,

7510-00-995-4852,

7510-00-995-4856,

7510-00-NIB-0267,

7510-00-NIB-0268.

NPA: Bestwork Industries for the Blind, Inc., Runnemede, New Jersey.

Contract Activity: Office Supplies & Paper Products Acquisition Center, New York, New York.

Product/NSN: Solvent, Correction Fluid,

7510-01-013-9215.

NPA: Lighthouse for the Blind, St. Louis, Missouri.

Contract Activity: Office Supplies & Paper Products Acquisition Center, New York, New York.

Product/NSN: Standard Bus Equipment,

5999-00-NSH-0001.

NPA: Sheltered Workshop for the Disabled, Inc., Binghamton, New York.

Contract Activity: U.S. Coast Guard, Dept. of Transportation, Washington, DC.

Product/NSN: Tape, Postage Meter,

7530-00-912-3925.

NPA: Cincinnati Association for the Blind, Cincinnati, Ohio.

Contract Activity: Office Supplies & Paper Products Acquisition Center, New York, New York.

Services

Service Type/Location: Brick Joint Cleaning, Andersonville National Historic Site, Andersonville, Georgia.

NPA: Macon County MR Services Center, Montezuma, Georgia.

Contract Activity: Department of Interior, Reston, Virginia.

Service Type/Location: Janitorial/Custodial, Andersonville National Historic Site, Andersonville, Georgia.

NPA: Macon County MR Services Center, Montezuma, Georgia.

Contract Activity: Department of Interior, Reston, Virginia.

Sheryl D. Kennerly,
Director, Information Management.

[FR Doc. 04-21536 Filed 9-23-04; 8:45 am]

BILLING CODE 6353-01-P